DEPARTMENT OF ENERGY

Federal Energy Regulatory Commission

[Docket No. EC03-83-000, et al.]

Katahdin Paper Company LLC, et al.; Electric Rate and Corporate Filings

May 6, 2003.

The following filings have been made with the Commission. The filings are listed in ascending order within each docket classification.

1. Katahdin Paper Company LLC, Great Northern Paper, Inc.

[Docket No. EC03-83-000]

Take notice that on April 30, 2003, Katahdin Paper Company LLC (Katahdin) and Great Northern Paper, Inc. (GNP) submitted for filing with the Federal Energy Regulatory Commission (Commission), pursuant to section 203 of the Federal Power Act, and part 33 of the Commission's regulations, an application for authorization for GNP to sell steam generation and appurtenant facilities to Katahdin.

Comment Date: May 21, 2003.

2. Citizens Communications Company

[Docket No. ER03-548-001]

The notice of filing issued by the Commission on April 17, 2003, in the above-referenced proceeding is hereby rescinded.

3. Citizens Communications Company

[Docket No. ER03-584-001]

Take notice that on April 11, 2003, Citizens Communications Company (Citizens) tendered for filing a Notice of Cancellation of Rate Schedule 46, applicable to sales-for-resale service to Mohave Electric Cooperative.

Citizens states that copies of this filing have been served to Mohave Electric Cooperative and Arizona Corporation Commission.

Comment Date: May 16, 2003.

4. PJM Interconnection, L.L.C.

[Docket No. ER03-807-000]

Take notice that on May 1, 2003, PJM Interconnection, L.L.C. (PJM), submitted for filing amendments to the PJM Open Access Transmission Tariff and the Amended and Restated Operating Agreement of PJM Interconnection, L.L.C. to increase the megawatt limit for participation in the Non-Hourly Metered Customer Pilot programs of the PJM Emergency Load Response Program and PJM Economic Load Response Program from an aggregate of 25 MW for both programs to an aggregate of 100 MW for both programs.

PNM states that copies of this filing have been served on all PJM members and each state electric utility regulatory commission in the PJM region.

Comment Date: May 22, 2003.

5. PJM Interconnection, L.L.C.

[Docket No. ER03-808-000]

Take notice that on May 1, 2003, PJM Interconnection, L.L.C. (PJM) filed additional conforming changes to the Amended and Restated Operating Agreement of PJM Interconnection, L.L.C. (Operating Agreement) and the PJM Open Access Transmission Tariff (Tariff) to further reflect the elimination of the “available capacity” approach from PJM West and its replacement with an “unforced capacity” approach for the entire PJM region, as requested by PJM in Docket No. ER03-703-000.

PJM states that it proposes an effective date of June 1, 2003, for the Tariff revisions, to conform with the requested effective date in ER03-703-000, and July 1, 2003, for the Operating Agreement revisions. PJM further states that copies of its filing were served upon all PJM members and each state electric utility regulatory commission in the PJM region.

Comment Date: May 22, 2003.

6. FPL Energy New England Transmission, LLC

[Docket No. ER03-809-000]

Take notice that on May 2, 2003, FPL Energy New England Transmission, LLC (FPLE NET) tendered for filing with the Federal Energy Regulatory Commission (Commission), pursuant to section 205 of the Federal Power Act, an executed Interconnection and Operating Agreement between FPLE NET and FPL Energy Seabrook, LLC (FPLE Seabrook) that sets forth the terms and conditions governing the interconnection of FPLE Seabrook's generating facility to FPLE NET's 345 kV substation.

Comment Date: May 23, 2003.

7. New York Independent System Operator, Inc.

[Docket No. ER03-810-000]

Take notice that on May 2, 2003, the New York Independent System Operator, Inc. (NYISO) filed revisions to its Market Administration and Control Area Services (Services Tariff) to introduce certain enhancements to its Incentivized Day-Ahead Economic Load Curtailment Program, more commonly known as the Day-Ahead Demand Reduction Program.

The NYISO has requested an effective date of July 1, 2003, for the filing.

The NYISO states that it has served a copy of this filing upon all parties that have executed service agreements under the NYISO's Open Access Transmission Tariff or Market Administration and Control Area Services Tariff.

Comment Date: May 23, 2003.

8. Entergy Services, Inc.

[Docket No. ER03-811-000]

Take notice that on May 2, 2003, Entergy Services, Inc. (Entergy), on behalf of Entergy Louisiana, Inc. (Entergy Louisiana), tendered for filing an unexecuted, amended and restated Interconnection and Operating Agreement and an updated Generator Imbalance Agreement with Occidental Chemical Corporation (Occidental).

Comment Date: May 23, 2003.

9. William L. Cyr

[Docket No. ID-3872-000]

Take notice that on April 25, 2003, William L. Cyr filed with the Federal Energy Regulatory Commission (Commission) an application for authority to hold interlocking positions between Northern Maine Independent System Administrator, Inc. and Maine Public Service Company.

Comment Date: May 27, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-11930 Filed 5-12-03; 8:45 am]

BILLING CODE 6717-01-P